DEPARTMENT OF AGRICULTURE

Forest Service

Sierra Nevada Forest Plan Amendment, Supplemental Environmental Impact Statement

AGENCY: Forest Service, USDA.

ACTION: Notice of intent to prepare a supplemental environmental impact statement.

SUMMARY: The Department of Agriculture, Forest Service, Intermountain and Pacific Southwest Regions will prepare and consider a supplemental environmental impact statement (SEIS) for a proposal to amend the Record of Decision (ROD) for the Sierra Nevada Forest Plan Amendment, which was signed on January 12, 2001. Specifically, the proposed action responds to changed circumstances and new information identified during a year-long review of the Sierra Nevada Forest Plan Amendment. The proposed action would amend the Land and Resource Management Plans for the Humboldt-Toiyabe, Modoc, Lassen, Plumas, Tahoe, Eldorado, Stanislaus, Sierra, Sequoia, and Inyo National Forests, the Lake Tahoe Basin Management Unit. As done for the original ROD, the Regional Forester for the Pacific Southwest Region has delegated authority to adopt any changes on behalf of the Regional Forester for the Intermountain Region.

DATES: Scoping is not required for supplements to environmental impact statements (40 CFR 1502.9(c) 4(4)). There was extensive public involvement in the development of the proposed action and the Forest Service is not inviting comments at the time.

FOR FURTHER INFORMATION CONTACT: Kathleen S. Morse, Interdisciplinary Team Leader, USDA Forest Service, Pacific Southwest Region, 1323 Club Drive, Vallejo, CA 94592. Phone: (707) 562-8822.

SUPPLEMENTARY INFORMATION:

Background

Over the past decade, the Forest Service has conducted large-scale land and resource management planning efforts for the Sierra Nevada bioregion. In 1992, the Forest Service Pacific Southwest Research Station published The California Spotted Owl: A Technical Assessment of its Current Status (CASPO Technical Report), which initiated a Sierra Nevada-wide planning effort to address concerns about declining California spotted owl populations. In January 1993, the Forest Service completed an environmental assessment that proposed guidelines for California spotted owl conservation based on measures described in the CASPO Technical Report. On January 13, 1993, the Regional Forester decided to adopt these guidelines for the Pacific Southwest Region as an interim measure to protect California spotted owl habitat until a long-term conservation strategy could be developed.

The Forest Service analyzed options for a long-term California spotted owl strategy in a draft environmental impact statement (EIS) released in February 1995 and a revised draft EIS released in 1996. In 1997, the Secretary of Agriculture chartered a Federal Advisory Committee (FAC) to review the revised draft EIS. The FAC concluded that the revised draft EIS was insufficient as either a California spotted owl management plan or as a broader ecosystem management plan.

In early 1998, the Chief of the Forest Service directed the Regional Forester of the Pacific Southwest Region to develop an ecosystem strategy for conserving California spotted owls, old forest ecosystems, and other forest resources, considering the recommendations of the FAC committee and recent scientific information presented in the Sierra Nevada Ecosystems Management Report (SNEP) to Congress, published between June 1996 and March 1997. The SNEP Report included four volumes of scientific assessments for the Sierra Nevada bioregion, with accompanying large database and maps. In November 1998, the Forest Service published a Notice of Intent to prepare an EIS to amend Land and Resource Management Plans for 11 national forests in the Sierra Nevada and Modoc Plateau and Regional Guides for the Intermountain and Pacific Southwest Regions to address five problem areas: old forest ecosystems and associated species; aquatic, riparian, and meadow ecosystems; fire and fuels; noxious weeds; and lower westside hardwood ecosystems. In May 2000, the draft EIS for the Sierra Nevada Forest Plan Amendment (SNEPA) was released. The final EIS for the SNFPA was released in January 2001 and the Record of Decision was signed on January 12, 2001.

As the Forest Service was preparing the Notice of Intent for the SNFPA, the Herger-Feinstein Quincy Library Group Forest Recovery Act (HFQLG Forest Recovery Act) became law in October 1998 as part of the Department of Interior and Related Agencies Appropriations Act. The HFQLG Forest Recovery Act required the Forest Service to conduct a 5-year pilot project to implement certain resource protection measures and management activities on the Plumas, Lassen, and Tahoe National Forests. Based on the direction in the HFQLF Forest Recovery Act, the Forest Service prepared an environmental impact statement (EIS) evaluating the impacts of the pilot project. In August 1999, the Lassen, Plumas, and Tahoe Forest Supervisors issued the Record of Decision (ROD) and the Final Environmental Impact Statement (FEIS) for pilot project implementation. Subsequently, the pilot project area was included in the SNFPA and management direction for the pilot project was changed to reflect the January 12, 2001 decision.

On November 16, 2001, the Chief of the Forest Service completed his review of 234 appeals of the SNEPA ROD. The Chief affirmed the SNFPA ROD. However, in his appeal decision, the Chief instructed the Regional Forester of the Pacific Southwest Region to re-evaluate the SNFPA decision in light of recent and repeated severe fire seasons and a need to aggressively manage excessive fuel loading. Incompatibilities between the HFQLG Forest Recovery Act and the SNFPA were another area of concern. The Chief's appeal decision was subject to discretionary review by the Secretary of Agriculture, however, a review was not concluded.

On December 31, 2001, the Regional Forester chartered the Sierra Nevada Forest Plan Amendment River Team (Team) to evaluate any needed changes to the SNFPA ROD relative to the areas of concern identified in the Chief's appeal decision as well as other issues raised in the appeals, specifically the impacts of the decision on grazing permit holders, recreation users and permit holders, and local communities. Over the course of a year-long review, the Team worked with staffs from national forests and ranger districts; an interagency team with members from Federal, State, and local agencies, former members of the SNFPA interdisciplinary team; scientists; and various various interest groups to gain insights and new information relative to the SNFPA ROD. The Team developed recommendations consistent with the Regional Forester's charter to “develop flexible solutions primarily focused on improving local decision-making capabilities, while meeting our obligations under applicable laws.” In March 2003, the Team released its findings and recommendations in a report entitled “Sierra Nevada Forest Plan Amendment Management Review and Recommendations” (USDA Forest Service Pacific Southwest Region, R5-MB-012), March 2003).

Purpose and Need for Action

Based upon the new analysis and information provided by the review and the knowledge gained by field managers charged with implementing the decision, the Regional Forester proposes to change selected elements of the SNFPA. The proposal builds on the strengths of the SNFPA ROD and retains its goals, land allocations, acres of treatment and the same priority to protect communities. The proposed changes respond to the Chief's direction: (1) Identify ways to more aggressively treat fuel loading in the Sierra Nevada while providing short and long-term protection of wildlife and other resource values, (2) improve consistency with the National Fire Plan, and (3) achieve greater harmony between the SNFPA and the HFQLG Forest Recovery Act. In addition, the proposed action allows for a wider array of tools and techniques to be used to achieve the desired conditions for a given location. This will increase the efficiency and effectiveness of fuels treatments and provide more opportunities to balance uses such as grazing and recreation with habitat protection for sensitive species.

Proposed Action

The proposed action replaces select standards and guidelines in the existing fire and fuels management strategy with direction that provides the flexibility needed at the local level to effectively modify wildland fire behavior. In addition, the basic strategy is broadened to include other management objectives such as addressing forest health issues, restoring and maintaining ecosystem structure and composition, and restoring ecosystems after severe wildfires. The resulting integrated vegetation management strategy is designed to be sufficiently aggressive to minimize risk in the urban-wildland interface areas and adequately address the threats to wildlife from catastrophic wildfires. This objective is balanced with the need to provide for short-term and long-term protection for wildlife and other resource values.

The proposed action builds some flexibility into standards and guidelines for willow flycatcher habitat, Yosemite toad habitat, great gray owl protected activity centers, and grazing utilization to better reflect the wide array of site conditions encountered in the field and the management opportunities they may provide.

The proposed action clarifies management intent for off-highway vehicles, limits the requirement for limited operating periods to vegetative management projects only, and clarifies how several of the riparian standards and guidelines apply to recreation activities, uses and projects. These changes are proposed to more closely align written direction with management intent and to allow local managers to develop mitigation measures for small and varied recreation-related projects on a project- and site-specific basis.

Responsible Official

The responsible official is Regional Forester Jack A. Blackwell, USDA Forest Service Pacific Southwest Region, 1323 Club Drive, Vallejo, CA 94592.

Nature of Decision To Be Made

The Record of Decision for the SEIS will amend the Land and Resource Management plans for the Humboldt-Toiyabe, Modoc, Lassen, Plumas, Tahoe, Eldorado, Stanislaus, Sierra, Sequoia, and Inyo National Forests, the Lake Tahoe Basin Management Unit.

Early Notice of Importance of Public Participation in Subsequent Environmental Review

A draft SEIS is expected to be available for public review and comment in May 2003; and a final environmental impact statement in October 2003. The comment period for the draft SEIS will be 90 days from the date the EPA publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 90-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Sec)

Gilbert Espinosa,
Deputy Regional Forester.

[FR Doc. 03-8317 Filed 4-4-03; 8:45 am]

BILLING CODE 3410-11-M